NUCLEAR REGULATORY COMMISSION

Notice of Availability of Interim Staff Guidance Documents for Fuel Cycle Facilities

AGENCY: Nuclear Regulatory Commission.

ACTION: Notice of availability.

FOR FURTHER INFORMATION CONTACT: Wilkins Smith, Project Manager, Technical Support Group, Division of Fuel Cycle Safety and Safeguards, Office of Nuclear Material Safety and Safeguards, U.S. Nuclear Regulatory Commission, Washington, DC 20005-0001. Telephone: (301) 415-5788; fax number: (301) 415-5370; e-mail: wrs@nrc.gov.

SUPPLEMENTARY INFORMATION:

I. Introduction

The Nuclear Regulatory Commission (NRC) is preparing and issuing Interim Staff Guidance (ISG) documents for fuel cycle facilities. These ISG documents provide clarifying guidance to the NRC staff when reviewing licensee integrated safety analyses, license applications or amendment requests or other related licensing activities for fuel cycle facilities under Subpart H of 10 CFR Part 70. FCSS-ISG-01, -04, and -09 have been issued and are provided for information.

II. Summary

The purpose of this notice is to provide notice to the public of the issuance of Interim Staff Guidance documents for fuel cycle facilities. FCSS-ISG-01, Revision 0, provides guidance to NRC staff relative to methods for qualitative evaluation of likelihood in the context of a review of a license application or amendment request under 10 CFR Part 70, Subpart H. FCSS-ISG-01, Revision 0, has been approved and issued after a general revision based on NRC staff and public comments on the initial draft. FCSS-ISG-04, Revision 0 has been approved and issued and provides guidance relative to baseline design criteria for new facilities and new processes at existing facilities. FCSS-ISG-09, Revision 0, has been approved and issued and provides guidance relative to initiating event frequencies for integrated safety assessments.

III. Further Information

Documents related to this action are available electronically at the NRC's Electronic Reading Room at http://www.nrc.gov/reading-rm/adams.html. From this site, you can access the NRC's Agencywide Document Access and Management System (ADAMS), which provides text and image files of NRC's public documents. The ADAMS accession numbers for the documents related to this notice are provided in the following table. If you do not have access to ADAMS or if there are problems in accessing the documents located in ADAMS, contact the NRC Public Document Room (PDR) Reference staff at 1-800-397-4209, 301-415-4737, or by e-mail to pdr@nrc.gov.

Interim staff guidance | ADAMS accession No.
FCSS Interim Staff Guidance-01, Revision 0 | ML051520236
FCSS Interim Staff Guidance-04, Revision 0 | ML051520313
FCSS Interim Staff Guidance-09, Revision 0 | ML051520323

These documents may also be viewed electronically on the public computers located at the NRC's PDR, O 1 F21, One White Flint North, 11555 Rockville Pike, Rockville, MD 20852. The PDR reproduction contractor will copy documents for a fee. Comments on these documents may be forwarded to Wilkins Smith, Project Manager, Technical Support Group, Division of Fuel Cycle Safety and Safeguards, Office of Nuclear Material Safety and Safeguards, U.S. Nuclear Regulatory Commission, Washington, DC 20005-0001. Comments can also be submitted by telephone, fax, or e-mail which are as follows: Telephone: (301) 415-5788; fax number: (301) 415-5370; e-mail: wrs@nrc.gov.

Dated at Rockville, Maryland this 9th day of June, 2005. For the Nuclear Regulatory Commission.
Melanie A. Galloway,
Chief, Technical Support Group, Division of Fuel Cycle Safety and Safeguards, Office of Nuclear Material Safety and Safeguards.

[FR Doc. 05-12639 Filed 6-24-05; 8:45 am]

BILLING CODE 7590-01-P